Title 3—

The President

Proclamation 7403 of January 20, 2001

National Day of Prayer and Thanksgiving, 2001

By the President of the United States of America

A Proclamation

Nearly 200 years ago, on March 4, 1801, our young Nation celebrated an important milestone in its history, the first transfer of power between political parties, as Thomas Jefferson took the oath of office as President. On this bicentennial of that event, we pause to remember and give thanks to Almighty God for our unbroken heritage of democracy, the peaceful transition of power, and the perseverance of our Government through the challenges of war and peace, want and prosperity, discord and harmony.

President Jefferson also wrote, “The God who gave us life gave us liberty at the same time” and asked, “Can the liberties of a nation be secure when we have removed a conviction that these liberties are of God?” Indeed, it is appropriate to mark this occasion by remembering the words of President Jefferson and the examples of Americans of the past and today who in times of both joy and need turn to Almighty God in prayer. Times of plenty, like times of crisis, are tests of American character. Today, I seek God's guidance and His blessings on our land and all our people. Knowing that I cannot succeed in this task without the favor of God and the prayers of the people, I ask all Americans to join with me in prayer and thanksgiving.

NOW, THEREFORE, I, GEORGE W. BUSH, President of the United States of America, by the authority vested in me by the Constitution and laws of the United States, do hereby proclaim January 21, 2001, a National Day of Prayer and Thanksgiving and call upon the citizens of our Nation to gather together in homes and places of worship to pray alone and together and offer thanksgiving to God for all the blessings of this great and good land. On this day, I call upon Americans to recall all that unites us. Let us become a nation rich not only in material wealth but in ideals—rich in justice and compassion and family love and moral courage. I ask Americans to bow our heads in humility before our Heavenly Father, a God who calls us not to judge our neighbors, but to love them, to ask His guidance upon our Nation and its leaders in every level of government.

IN WITNESS WHEREOF, I have hereunto set my hand this twentieth day of January, in the year of our Lord two thousand one, and of the Independence of the United States of America the two hundred and twenty-fifth.

[FR Doc. 01-2400

Filed 1-24-01; 8:45 am]

Billing code 3195-01-P